DEPARTMENT OF ENERGY

Federal Energy Regulatory Commission

18 CFR Part 4

[Docket No. RM14-20-000; Order No. 798]

Format and Dimensions of Maps and Drawings Required by the Commission's Hydropower Program

AGENCY: Federal Energy Regulatory Commission.

ACTION: Final rule.

SUMMARY: The Commission is issuing this Final Rule to make minor changes to its regulations. This Final Rule amends requirements pertaining to the format and dimensions of maps and drawings submitted to the Commission by applicants and licensees in the Commission's hydropower program. Specifically, the amendments: remove the requirement that applicants and licensees submit copies of certain project maps and drawings in microfilm format on aperture cards; and change the minimum and maximum dimensions applicable to submitted maps and drawings. These amendments modernize the regulations to reflect technological advances and relieve burdens placed on applicants and licensees.

DATES: This rule will become effective September 8, 2014.

FOR FURTHER INFORMATION CONTACT: Charles K. Cover, Office of Energy Projects, Federal Energy Regulatory Commission, 888 First Street NE., Washington, DC 20426, 202-502-8832.

SUPPLEMENTARY INFORMATION:

Before Commissioners: Cheryl A. LaFleur, Acting Chairman; Philip D. Moeller, John R. Norris, and Tony Clark.

In the matter of: RM14-20-000 Format and Dimensions of Maps and Drawings Required by the Commission's Hydropower Program.

Order No. 798

Final Rule

(Issued July 17, 2014)

I. Discussion

1. The Commission is issuing this Final Rule to remove from its regulations the requirement in 18 CFR 4.39(a) that hydropower applicants and licensees submit copies of project maps and drawings in microfilm format on aperture cards.¹ This Final Rule removes the requirement that microfilm copies of maps and drawings must be submitted to the Commission on aperture cards and deletes other references in the regulations to microfilm and aperture cards. The regulations will continue to require copies of maps and drawings to be submitted in paper format or electronic format in accordance with filing procedures posted on the Commission's Web site at http://www.ferc.gov.

¹ An aperture card is a punch card with a cutout window in which microfilm is mounted. Currently, the Commission requires license and exemption applicants to submit microfilm copies of maps and drawings on aperture cards with their applications, after their applications have been accepted for filing (see 18 CFR 4.32(d) (2013)), or after they receive their license or exemption.

2. This change modernizes the Commission's regulations and relieves applicants, licensees, and exemptees from burdens associated with producing microfilm on aperture cards. Aperture cards continue to grow more expensive and difficult to obtain as the industry and entities move to more modern formats. The Commission originally chose to utilize aperture cards because of their durability and uniformity. However, technological advances have made electronic versions of documents more timeless, secure, and convenient. Consequently, the Commission has decided to discontinue its use of aperture cards and instead rely on print and digital formats.

3. This final rule also amends 18 CFR 4.39(a) to change the minimum and maximum dimensions applicable to submitted maps and drawings. The rule changes the minimum dimensions from 24 by 36 inches to 22 by 34 inches. It changes the maximum dimensions from 28 by 40 inches to 24 by 36 inches. The Commission makes this change in order to reflect the dimensions commonly used by architects and engineers. The new limits also will allow maps and drawings to be more easily reduced to half size without loss of quality (e.g. a 22 by 34 inch drawing can be reduced to a convenient 11 by 17 inch half size).

II. Information Collection Statement

4. The changes are subject to review by the Office of Management and Budget (OMB) under section 3507(d) of the Paperwork Reduction Act of 1995 (PRA).² Office of Management and Budget (OMB) regulations require OMB to approve certain information collection requirements imposed by agency rule.³ This Final Rule makes only minor modifications to the medium, formatting and dimensional requirements applicable to existing information collections ⁴ and does not require any new information to be collected.

² 44 U.S.C. 3507 (2012).

³ See 5 CFR 1320 (2013).

⁴ FERC-500, Application for License/Relicense for Water Projects with Greater than 5MW Capacity (OMB Control No. 1902-0058); FERC-505, Application for License/Relicense for Water Projects with 5 MW or Less Capacity (OMB Control No. 1902-0115) including conduit exemption applications; and FERC-512, Application for Preliminary Permit (OMB Control No. 1902-0073).

5. The revisions reflect and adapt to the medium and technology already in use by filers and industry. Therefore, this Final Rule is being submitted to OMB for review as a non-substantive change to the FERC-500, FERC-505, and FERC-512. Please send any comments on the changes to the Commission in this docket, and to the Office of Management and Budget by email to: oira_submission@omb.eop.gov. Comments submitted to OMB should include Docket Number RM14-20-000 and OMB Control Numbers 1902-0058, 1902-0115, and 1902-0073.

III. Environmental Analysis

6. The Commission is required to prepare an Environmental Assessment or an Environmental Impact Statement for any action that may have a significant adverse effect on the human environment.⁵ Rules that are clarifying, corrective, or procedural or that do not substantially change the effect of the regulations being amended are excluded from this requirement.⁶ Because this Final Rule makes only minor changes to the regulations, it will not substantially change that effect. Consequently, this Final Rule is not an action that has a significant adverse effect on the human environment under the Commission's regulations implementing the National Environmental Policy Act of 1969.

⁵ See Regulations Implementing the National Environmental Policy Act of 1969, Order No. 486, 52 FR 47,897 (Dec. 17, 1987), FERC Stats. & Regs., Regulations Preambles 1986-1990 ¶ 30,783 (1987).

⁶ See 18 CFR 380.4(a)(2) (2013).

IV. Regulatory Flexibility Act Certification

7. The Regulatory Flexibility Act of 1980 ⁷ generally requires a description and analysis of rules that will have significant economic impact on a substantial number of small entities. This Final Rule makes only minor modifications to existing information collection processes. Annually, the Commission receives aperture card filings and drawings from approximately 160 licensees/exemptees (out of 1,660 hydroelectric licensees/exemptees). This Final Rule reduces the economic burden of submitting microfilm copies of maps and drawings in aperture card format to the Commission. Therefore, the Commission certifies that this Final Rule will not have significant economic impact on a substantial number of small entities.

⁷ 5 U.S.C. 601-12 (2012).

V. Document Availability

8. In addition to publishing the full text of this document in the Federal Register, the Commission provides all interested persons an opportunity to view and/or print the contents of this document via the Internet through the Commission's Web site (http://www.ferc.gov) and in the Commission's Public Reference Room during normal business hours (8:30 a.m. to 5:00 p.m. Eastern Standard Time) at 888 First Street NE., Room 2A, Washington, DC 20426.

9. From the Commission's homepage on the Internet, this information is available in the Commission's document management system, eLibrary. The full text of this document is available on eLibrary in PDF and Microsoft Word format for viewing, printing, and/or downloading. To access this document in eLibrary, type the docket number excluding the last three digits of this document in the docket number field.

10. User assistance is available for eLibrary and the Commission's Web site during normal business hours from FERC Online Support at 1-866-208-3676 (toll free) or (202) 502-6652 (email at ferconlinesupport@ferc.gov), or the Public Reference Room at (202) 502-8371, TTY (202) 502-8659 (email at public.referenceroom@ferc.gov).

VI. Effective Date and Congressional Notification

11. This Final Rule is effective September 8, 2014. The Commission has determined, with the concurrence of the Administrator of the Office of Information and Regulatory Affairs of OMB, that this rule is not a “major rule” as defined in section 351 of the Small Business Regulatory Enforcement Fairness Act of 1996.⁸ The Commission will submit the Final Rule to both houses of Congress and to the General Accountability Office.

⁸ See 5 U.S.C. 804(2) (2012).

List of Subjects in 18 CFR Part 4

Administrative practice and procedure, Dams, Electric power, Reporting and recordkeeping requirements.

By the Commission.
Issued: July 17, 2014.
Kimberly D. Bose,
Secretary.

In consideration of the foregoing, the Commission is amending Part 4, Chapter I, Title 18, Code of Federal Regulations, as follows.

PART 4—LICENSES, PERMITS, EXEMPTIONS, AND DETERMINATION OF PROJECT COSTS

1. The authority citation for Part 4 continues to read as follows:

Authority: 16 U.S.C. 791a-825v, 2601-2645; 42 U.S.C. 7101-7352.

§ 4.32 [Amended]

2. In § 4.32:

a. Remove the next to last sentence of paragraph (b)(1).

b. Remove the last sentence of paragraph (b)(2).

§ 4.39 [Amended]

3. In § 4.39(a):

a. Remove the first sentence.

b. Remove “24 by 36” and add in its place “22 by 34”.

c. Remove “28 by 40” and add in its place “24 by 36”.

[FR Doc. 2014-17268 Filed 7-23-14; 8:45 am]

BILLING CODE 6717-01-P